DEPARTMENT OF EDUCATION

Applications for New Awards; Personnel Development To Improve Services and Results for Children With Disabilities—National Center for Development and Dissemination of Digital Open Educational Resources That Translate Research To Practice for Building the Capacity of Personnel Serving Students With Disabilities

AGENCY: Office of Special Education and Rehabilitative Services, Department of Education.

ACTION: Notice.

SUMMARY: The Department of Education (Department) is issuing a notice inviting applications for new awards for fiscal year (FY) 2022 for the National Center for Development and Dissemination of Digital Open Educational Resources that Translate Research to Practice for Building the Capacity of Personnel Serving Students with Disabilities, Assistance Listing Number 84.325E. This notice relates to the approved information collection under OMB control number 1820-0028.

DATES:

Applications Available: March 3, 2022.

Deadline for Transmittal of Applications: May 2, 2022.

Deadline for Intergovernmental Review: July 1, 2022.

Pre-Application Webinar Information: No later than March 8, 2022, the Office of Special Education and Rehabilitative Services will post details on pre-recorded informational webinars designed to provide technical assistance (TA) to interested applicants. Links to the webinars may be found at www2.ed.gov/fund/grant/apply/osep/new-osep-grants.html.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Sarah Allen, U.S. Department of Education, 400 Maryland Avenue SW, Room 5160, Potomac Center Plaza, Washington, DC 20202-5076. Telephone: (202) 245-7875. Email: Sarah.Allen@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of this program are to (1) help address State-identified needs for personnel preparation in special education, early intervention, related services, and regular education to work with children, including infants and toddlers, with disabilities; and (2) ensure that those personnel have the necessary skills and knowledge, derived from practices that have been determined through scientifically based research and experience, to be successful in serving those children.

Priority: This competition includes one absolute priority. In accordance with 34 CFR 75.105(b)(2)(v), this priority is from allowable activities specified in the statute (see sections 662 and 681 of the Individuals with Disabilities Education Act (IDEA); 20 U.S.C. 1462 and 1481).

Absolute Priority: For FY 2022 and any subsequent year in which we make awards from the list of unfunded applications from this competition, this priority is an absolute priority. Under 34 CFR 75.105(c)(3), we consider only applications that meet this priority.

This priority is:

National Center for the Development and Dissemination of Digital Open Educational Resources that Translate Research to Practice for Building the Capacity of Personnel Serving Students with Disabilities (Center).

Background: Well-prepared, culturally and linguistically responsive, and committed special education personnel are vital to improving developmental and learning outcomes (e.g., social, emotional, behavioral, and academic) for all students, especially students with disabilities (Darling-Hammond et al., 2020). The Nation faces continued chronic shortages in the education workforce, especially special education personnel, and these shortages have been exacerbated by the COVID-19 pandemic (Billingsley & Bettini, 2019; Gecker, 2021; Mason-Williams et al., 2020). Between 2009 and 2014, enrollment in higher education programs preparing personnel declined more than 30 percent (Espinoza et al., 2018). Schools and districts report increasing difficulty hiring personnel, especially personnel for special education and related services positions. As a result, many States lowered academic requirements to enter teacher preparation programs and are hiring personnel under emergency certifications (Putman & Walsh, 2021). The most effective way to ensure the use of evidence-based practices (EBPs) with cultural and linguistic competence by personnel serving students with disabilities is by (a) improving the quality of preparation programs through the incorporation of EBPs with cultural and linguistic competence into their program of study, and (b) providing ongoing professional development for the practicing workforce to ensure they have the knowledge and skills to use the most up to date EBPs (CEEDAR Center and Center for Great Teachers and Leaders, 2020).

Despite the gains made in identifying EBPs, use of those practices in delivery of instruction and interventions for students with disabilities continues to lag (Cook et al., 2021; Cook & Odom, 2021). Given the importance of EBPs in supporting students' growth and improving outcomes, it is critical that personnel serving students with disabilities have the updated knowledge and skills to choose and use these effective practices.

To ensure that personnel serving students with disabilities have the knowledge and skills to use EBPs effectively, States, districts, schools, and institutions of higher education (IHEs) must implement effective personnel development practices in both preparation programs and professional learning opportunities supporting growth for the current education workforce. Resources that may be used within such programs or stand-alone training are needed to support personalized professional learning for those seeking to advance their knowledge and skills. Further, both preparation programs and professional learning opportunities must be designed with a clear focus on course and curricular content that (a) translates research to practice by first building knowledge and understanding and then linking to meaningful applied learning experiences; (b) incorporates active learning with adult-learning principles; (c) connects learning to real-world settings; and (d) provides opportunities for modeling, coaching, and feedback (Darling-Hammond et al., 2017).

To advance educational equity in the use of EBPs with cultural and linguistic competence, preparatory programs and professional learning opportunities must also support multiple pathways into the profession, and support personnel development over a lifetime of learning and working, for individuals from diverse backgrounds (Darling-Hammond et al., 2017). In addition to traditional career pathways, some may enter the education workforce under provisional or alternate certification as career changers or after returning from military service. Others who are working as paraprofessionals may continue their education at a community college and then a four-year institution, with a pipeline program that leads to completion of the degree requirements needed for certification. Regardless of how one pursues full certification, all pathways that support traditionally underserved populations in obtaining meaningful and rewarding work within the education workforce need to be solidly grounded in the use of EBPs with cultural and linguistic competence.

Even before the onset of the COVID-19 pandemic, digital teaching and learning tools were playing an increasingly important role in preparation programs and professional learning opportunities for personnel serving and supporting students with disabilities (Pelletier et al., 2021). Digital learning tools can facilitate interactive preparation and professional learning environments and support learner variability. Mixed reality classroom simulators are expanding opportunities for teaching and learning in IHE courses from a focus on constructing knowledge and understanding to building skills by providing practice opportunities in simulated classrooms. New learning management platforms are being used to support the development, organization, and delivery of high-quality teaching and learning, and allow both personalized and competency-based learning and monitoring performance across individuals and groups. Other platforms continue to expand the use of microcredentials, badging, and other forms of credit for professional growth and meeting continuing education requirements. Evidence-based professional development is needed to support faculty and professional development providers to identify and use these tools to enhance teaching and learning in personnel preparation programs and professional learning opportunities.

With hybrid education expected to grow in importance and relevance, the need and demand for high-quality digital teaching and learning content, products, and services that build the capacity of personnel to use EBPs also continues to grow. In addition, there is increased demand for using virtual environments and paradigms to enhance personnel preparation programs and professional learning opportunities. Likewise, the need to support IHE faculty, and State and local professional development providers in learning to use these resources to design and deliver effective courses and plan comprehensive curricula or programs has grown and expanded.

This absolute priority will advance the Secretary's priorities in the areas of addressing the impact of COVID-19 on students, educators, and faculty and supporting a diverse educator workforce and professional growth to strengthen student learning.

Priority: The purpose of this priority is to fund a cooperative agreement to establish and operate a national center that will develop and disseminate digital, open educational resources (OER) ¹ that translate research to practice for use in building the capacity of special education personnel ² to use EBPs ³ with cultural and linguistic competence to improve results for students with disabilities. In addition, the Center will disseminate resources to (a) faculty who prepare special education personnel, including future faculty; (b) State, local, and other professional development providers; and (c) individuals independently seeking to use the Center's resources to design and deliver effective course and curriculum content needed to support the preparation and professional learning in use of EBPs with cultural and linguistic competence to deliver instruction, interventions, and services for students with disabilities and their families, including those from underserved populations.

¹ Open Educational Resources are teaching and learning materials that you may freely use and reuse at no cost.

² For the purpose of this priority, “special education personnel” include general and special education teachers, related service providers, and educational administrators of systems that provide services to children and youth with disabilities and their families. Also included may be faculty, policy makers, and others indirectly supporting delivery of services and support for students with disabilities.

³ For the purposes of this priority, “evidence-based practices” means practices that, at a minimum, demonstrate a rationale (as defined in 34 CFR 77.1), where a key project component included in the project's logic model is informed by research or evaluation findings that suggest the project component is likely to improve relevant outcomes.

The Center must achieve, at a minimum, the following expected outcomes:

(a) Development and dissemination of innovative accessible digital OER that translate research to practice for use in building the capacity of special education personnel to use EBPs with cultural and linguistic competence to improve results for students with disabilities including those from underserved populations;

(b) Products and services that include knowledge-based teaching and learning tools, skill-building exercises, and connections to real-world or simulated practice opportunities aligned to professional standards;

(c) Resources developed by the Center that are licensed through an open-access licensing authority;

(d) Resources developed by the Center that are responsive to learners from varied backgrounds (e.g., race, ethnicity, disability, primary language) and education levels (e.g., bachelor's, doctoral); and as needed, may be differentiated by role (e.g., teacher, provider, administrator) and used across certification pathways and professional development opportunities;

(e) Increased capacity of faculty and IHEs with personnel preparation programs ⁴ to build knowledge and skills of special education personnel to use EBPs with cultural and linguistic competence to strengthen learning and improve results for students with disabilities by using the Center's resources to enhance course and curricula content;

⁴ For the purpose of this priority, “personnel preparation programs” include associate, bachelor's, master's, educational specialist, and doctoral programs that prepare personnel serving students with disabilities.

(f) Increased capacity of State educational agencies (SEAs), local educational agencies (LEAs), and other providers supporting professional growth of current special education personnel in the use of EBPs with cultural and linguistic competence by using Center products to enhance course and curricula content; offer multiple comprehensive and evidence-based certification pathways and professional development opportunities; and track progress, verify learning across individuals or groups, and assign credit needed to meet continuing education requirements for personnel serving students with disabilities; and

(g) Partnerships or agreements that support dissemination and use of the Center's products in personnel preparation programs and professional learning opportunities, and services to yield verification of learning or forms of credit needed to demonstrate professional growth and meet continuing education requirements for personnel serving students with disabilities.

In addition to these programmatic requirements, to be considered for funding under this priority, applicants must meet the application and administrative requirements in this priority, which are:

(a) Demonstrate, in the narrative section of the application under “Significance,” how the proposed project will—

(1) Address current and emerging needs for instructional and intervention resources that translate research to practice for use in building the knowledge and skills of special education personnel to use EBPs with cultural and linguistic competence to improve results for students with disabilities, including those from underserved populations. To meet this requirement, the applicant must—

(i) Demonstrate knowledge of the need for special education personnel to have the knowledge and skills to identify and use EBPs with cultural and linguistic competence to improve outcomes for students with disabilities and knowledge of the challenges that faculty and IHEs offering personnel preparation programs, and SEAs, LEAs, and others offering professional learning opportunities, face in building the capacity of personnel;

(ii) Demonstrate knowledge of the need for high-quality, innovative, interactive OER that translate research to practice for enhancing courses and curricula content offered by IHEs, SEAs, LEAs, and other providers building the capacity of personnel to use EBPs with cultural and linguistic competence to deliver instruction, interventions, and services for students with disabilities and their families; and

(iii) Demonstrate knowledge of the current and emerging content, pedagogy, and instructional needs of learners differentiated by roles (e.g., teacher, service provider, administrator); credentials (e.g., uncertified or certified, across degree levels); backgrounds (e.g., education professional, career changer, race, and ethnicity); program type (e.g., higher education preparation program and professional learning opportunities); and expertise in developing and delivering instructional and intervention resources to build capacity of personnel to use EBPs with cultural and linguistic competence in delivering instruction, interventions, and services for students with disabilities and their families;

(2) Address the current and emerging needs for innovative, state-of-the-art educational technologies for use in personnel preparation programs and professional learning opportunities seeking to optimize course and curriculum content in programs designed to build the capacity of personnel to deliver evidence-based instruction, interventions, and services with cultural and linguistic competence for students with disabilities and their families. To address this requirement, the applicant must—

(i) Demonstrate knowledge of the need for innovative and promising educational technologies to enhance instruction and learning, and provide verification of learning of course and curriculum content, and expertise integrating these technologies in products and services designed to support preparation and professional learning opportunities of special education personnel;

(ii) Demonstrate knowledge of, and expertise in, effective dissemination of digital, OER addressing the use of EBPs with cultural and linguistic competence to IHEs, SEAs, LEAs, and other personnel development programs, including data demonstrating quality and use of those resources; and

(iii) Demonstrate knowledge of, and expertise in, building the capacity of IHE faculty (including future faculty) and personnel development providers to use digital OER in courses and curricula of personnel preparation programs and professional learning opportunities with consideration of learners differentiated by roles (e.g., teacher, provider, administrator); credentials (e.g., uncertified or certified, across degree levels); backgrounds (e.g., education professional, career changer, race, and ethnicity); and program type (e.g., higher education preparation program, continuing professional development).

(b) Demonstrate, in the narrative section of the application under “Quality of Project Services,” how the proposed project will—

(1) Ensure equal access and treatment for members of groups that have traditionally been underrepresented based on race, color, national origin, gender, age, or disability. To meet this requirement, the applicant must describe how it will—

(i) Identify the needs of the intended recipients, including both those learning to use EBPs with cultural and linguistic competence (e.g., special education personnel and scholars enrolled in preparation programs), and those who will use the Center's resources to design and deliver effective course and curriculum content needed to support the preparation (e.g., faculty, future faculty), or professional learning opportunities for special education personnel (e.g., SEAs, LEAs, other professional development providers) to use EBPs with cultural and linguistic competence to deliver instruction, interventions, and services for students with disabilities and their families; and

(ii) Ensure that services and products meet the needs of the intended recipients of the grant;

(2) Achieve its goals, objectives, and intended outcomes. To meet this requirement, the applicant must provide—

(i) Measurable intended project outcomes consistent with the intended outcomes specified in this notice; and

(ii) In Appendix A, the logic model ⁵ by which the proposed project will achieve its intended outcomes that depicts, at a minimum, the goals, activities, outputs, and intended outcomes of the proposed project;

⁵ Logic model (34 CFR 77.1) (also referred to as a theory of action) means a framework that identifies key project components of the proposed project (i.e., the active “ingredients” that are hypothesized to be critical to achieving the relevant outcomes) and describes the theoretical and operational relationships among the key project components and relevant outcomes.

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/resources-grantees/program-areas/ta-ta/tad-project-logic-model-and-conceptual-framework; https://osepideasthatwork.org/evaluation?tab=eval-logic; and https://ies.ed.gov/ncee/edlabs/regions/central/pdf/REL_2021112.pdf.

(4) Be based on current research and make use of EBPs. To meet this requirement, the applicant must describe—

(i) The current research on special education personnel's use of EBPs with cultural and linguistic competence in the delivery of instruction, interventions, and services that strengthen learning and improve outcomes for students with disabilities;

(ii) The current research on the use of innovative and promising interactive educational technologies to enhance instruction and learning, and provide verification of learning in course and curricula content of personnel preparation programs and professional learning opportunities that require demonstrated knowledge, skills, and practice in real-world or simulated settings; and

(iii) The current research about adult learning principles and implementation science that will inform the proposed product development, dissemination, and TA to IHEs, SEAs, LEAs, and other professional development providers; and

(iv) How the proposed project will incorporate current research and practices in the development and delivery of its products and services;

(5) Develop products and provide services that are of high quality and sufficient intensity and duration to achieve the intended outcomes of the proposed project. To address this requirement, the applicant must describe—

(i) How it proposes to identify or develop:

(A) Innovative, accessible digital OER that translate research to practice for use in building the capacity of special education personnel to implement EBPs with cultural and linguistic competence to improve results for students with disabilities;

(B) Existing products from the Office of Special Education Program's (OSEP's) prior investment for updating, to reflect current research, policy, product design, and delivery features;

(C) Products grounded in adult-learning principles and use of interactive educational technologies to enhance instruction and learning, provide verification of knowledge-based learning, provide skill-building exercises, and connect to real-world or simulated practice opportunities aligned to professional standards;

(D) Products that are responsive to the needs of learners from varied backgrounds (e.g., race, ethnicity, disability, primary language); education levels (e.g., bachelor's, doctoral); and, as needed, may be differentiated by role (e.g., teacher, provider, administrator) and used within personnel preparation, professional development, or by individuals for personalized learning;

(E) A framework and tools for identifying, implementing, and sustaining use of Center products within special education personnel preparation programs and for professional learning opportunities, to enhance the curriculum and support special education personnel; and

(F) A comprehensive communication plan to support dissemination of, and outreach related to, the Center's library of products and services. The framework should address the (a) target audiences; (b) context in which communication will occur; (c) purpose or intended outcomes of the communications (e.g., inform, increase use); and (d) use of media, including social media; and also include metrics to document effectiveness and reach;

(ii) Its proposed approach to universal, general TA,⁶ which must identify the intended recipients, including the type and number of recipients, that will receive the products and services, a description of the products and services that the project proposes to make available, and the expected impact of those products and services under this approach. At minimum, the approach should include activities focused on—

⁶ “Universal, general TA” means TA and information provided to independent users through their own initiative, resulting in minimal interaction with TA center staff and including one-time, invited, or offered conference presentations by TA center staff. This category of TA also includes information or products, such as newsletters, guidebooks, or research syntheses, downloaded from the TA center's website by independent users. Brief communications by TA center staff with recipients, either by telephone or email, are also considered universal, general TA.

(A) Identifying, developing, and disseminating products, materials, and tools to increase awareness of the importance and benefits of using EBPs with cultural and linguistic competence to strengthen student learning and improve outcomes for students with disabilities, including students with disabilities who have high-intensity needs and from underserved populations; and

(B) Identifying, developing, and disseminating products that translate research to practice for use in building the capacity of special education personnel to use EBPs with cultural and linguistic competence to improve results for students with disabilities, including students with disabilities who have high-intensity needs and those from underserved populations; and

(C) Identifying, developing, and disseminating products, materials, and tools to help IHEs, SEAs, LEAs, and other professional development providers use the Center's products or services to enhance and expand coverage of EBPs with cultural and linguistic competence in course and curriculum content of personnel preparation programs and professional development opportunities for those who serve students with disabilities;

(iii) Its proposed approach to targeted, specialized TA,⁷ which must identify—

⁷ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) Its proposed approach for identifying and establishing partnerships or agreements with ethnically and culturally diverse faculty and IHEs supporting different levels of preparation (associate, bachelor's, master's, educational specialist, and doctoral levels) to support use of Center products in course and curricula content;

(B) Its proposed approach for identifying and establishing partnerships or agreements with SEAs, LEAs (especially high-need LEAs ⁸) and other professional development providers to support use of Center products in course and curriculum content of programs supporting professional learning opportunities for current special education personnel;

⁸ For the purposes of this priority, “high-need LEA” means an LEA (a) that serves not fewer than 10,000 children from families with income below the poverty line; or (b) for which not less than 20 percent of the children are from families with income below the poverty line.

(C) The Center's services to track progress, verify learning across individuals or groups, and assign credit needed to meet continuing education requirements for personnel serving students with disabilities;

(D) Its proposed approach for establishing partnerships or agreements that support dissemination and use of the Center's resources in personnel preparation programs, and for professional learning opportunities to enhance teaching and learning, yield verification of learning, or forms of verification needed to demonstrate professional growth and meet continuing education requirements for personnel serving students with disabilities;

(E) Its proposed approach for collaborating with partners, including OSEP-funded TA centers, to increase use of EBPs with cultural and linguistic competence by special education personnel and build capacity for use of the Center's products in training and TA, and support alignment in resources across centers; and

(F) Its proposed approach for identifying and partnering with OSEP-funded grantees with Personnel Development to Improve Services and Results for Children With Disabilities Program projects to build the capacity of scholars, including future faculty, to use the Center's products in personnel preparation programs and to deliver professional learning opportunities.

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes; and

(7) Develop a dissemination plan that describes how the applicant will systematically distribute information, products, and services to varied intended audiences, using a variety of dissemination strategies, to promote awareness and use of the project's products and services.

(c) In the narrative section of the application under “Quality of the project evaluation,” include an evaluation plan for the project developed in consultation with and implemented by a third-party evaluator.⁹ The evaluation plan must—

⁹ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions should be related to the project's proposed logic model required in paragraph (b)(2)(ii) of this notice;

(2) Describe how progress in and fidelity of implementation, as well as project outcomes will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the annual performance report and at the end of Year 2 for the review process described under the heading, Fourth and Fifth Years of the Project;

(5) Dedicate sufficient funds in each budget year to cover the costs of developing or refining the evaluation plan in consultation with a third-party evaluator, as well as the costs associated with the implementation of the evaluation plan by the third-party evaluator.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, including those who are racially and ethnically diverse; faculty; special education personnel; TA providers; researchers; and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, or virtually, after receipt of the award, and an annual planning meeting in Washington, DC, or virtually, with the OSEP project officer and other relevant staff during each subsequent year of the project period.

Note: Within 30 days of receipt of the award, a post-award teleconference must be held between the OSEP project officer and the grantee's project director or other authorized representative;

(ii) A two and one-half day project directors' conference in Washington, DC, or virtually, during each year of the project period;

(iii) Three annual two-day trips to attend Department briefings, Department-sponsored conferences, and other meetings, as requested by OSEP; and

(iv) A one-day intensive 3+2 review meeting in Washington, DC, or virtually, during the second year of the project period;

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(4) Engage doctoral scholars or post-doctoral fellows in the project to deepen the knowledge, skills, competencies, and dispositions that future leaders in the field need to increase the special education workforce, ensure special education preparation programs are preparing scholars with the knowledge and skills to use EBPs with cultural and linguistic competence; translate research to practice; deliver professional learning opportunities; and provide TA;

(5) Maintain a high-quality website, with an easy-to-navigate design, that meets government or industry- recognized standards for accessibility;

(6) Ensure that annual project progress toward meeting project goals is posted on the project website; and

(7) Include, in Appendix A, an assurance to assist OSEP with the transfer of pertinent resources and products and to maintain the continuity of services to States during the transition to a new award at the end of this award period, as appropriate.

Fourth and Fifth Years of the Project: In deciding whether to continue funding the project for the fourth and fifth years, the Secretary will consider the requirements of 34 CFR 75.253(a), including—

(a) The recommendations of a 3+2 review team consisting of experts with knowledge of, and experience in, providing TA for building the capacity of special education personnel to improve results for students with disabilities. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

References

Billingsley, B., & Bettini, E. (2019). Special education teacher attrition and retention: A review of the literature. Review of Educational Research, 89(5), 697-744. https://doi.org/10.3102/0034654319862495

CEEDAR Center and The Center for Great Teachers and Leaders (2020). Preparing and retaining effective special education teachers: Short-term strategies for long-term solutions. A policy brief. https://ceedar.education.ufl.edu/wp-content/uploads/2020/01/CEEDAR-GTL-Shortages-Brief.pdf

Cook., B., Cook., L., & Landrum, T. (2021). Moving Research into Practice: Can we make dissemination stick? Exceptional Children, 79(2), 163-180. https://doi.org/10.1177%2F001440291307900203

Cook., B., & Odom, S. (2021). Evidence-based practices and implementation in special education. Exceptional Children, 79(2), 135-144. https://doi.org/10.1177/001440291307900201

Darling-Hammond, L., Flook, L., Cook-Harvey, C., Barron, B., & Osher, D. (2020). Implications for educational practice of the science of learning and development. Applied Developmental Science, 24(2), 97-140. http://dx.doi.org/10.1080/10888691.2018.1537791

Darling-Hammond, L., Hyler, M.E., & Gardner, M. (2017). Effective Teacher Professional Development. Learning Policy Institute. https://doi.org/10.54300/122.311

Espinoza, D., Saunders, R., Kini, T., & Darling-Hammond, L. (2018). Taking the long view: State efforts to solve teaching shortages by strengthening the profession. Learning Policy Institute. https://learningpolicyinstitute.org/sites/default/files/product-files/Long_View_REPORT.pdf

Gecker, Jocelyn. “Covid-19 Creates Dire US Shortage of Teachers, School Staff.” AP NEWS, Associated Press, 23 Sept. 2021, https://apnews.com/article/business-science-health-education-californiab6c495eab9a2a8f1a3ca068582c9d3c7

Mason-Williams, L., Bettini, E., Peyton, D., Harvey, A., Rosenberg, M., & Sindelar, P.T. (2020). Rethinking shortages in special education: Making good on the promise of an equal opportunity for students with disabilities. Teacher Education and Special Education, 43(1), 45-62. https://doi.org/10.1177/0888406419880352

Pelletier, K., Brown, M., Brooke, D.C., McCormack, M., Reeves, J., and Arbino, N., with Bozkut, A., Crawford, S., Czerniewicz, L., Gibson, R., Linder, K., Mason, J., & Mondelli, V. (2021). 2021 EDUCAUSE Horizon Report: Teaching and learning edition. EDUCAUSE. https://library.educause.edu/-/media/files/library/2021/4/2021hrteachinglearning.pdf?la=en&hash=C9DEC12398593F297CC634409DFF4B8C5A60B36E

Putman, H., & Walsh, K. (2021). State of the States 2021: Teacher Preparation Policy. National Council on Teacher Quality. www.nctq.org/publications/State-of-the-States-2021:-Teacher-Preparation-Policy

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1462 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to IHEs only.

II. Award Information

Type of Award: Cooperative agreement.

Estimated Available Funds: The Administration has requested $90,200,000 for the Personnel Development To Improve Services and Results for Children With Disabilities program for FY 2022, of which we intend to use an estimated $1,200,000 for this competition. The actual level of funding, if any, depends on final congressional action. However, we are inviting applications to allow enough time to complete the grant process if Congress appropriates funds for this program.

Contingent upon the availability of funds and the quality of applications, we may make additional awards in FY 2023 from the list of unfunded applications from this competition.

Maximum Award: We will not make an award exceeding $1,200,000 for a single budget period of 12 months.

Estimated Number of Awards: 1.

Note: The Department is not bound by any estimates in this notice.

Project Period: Up to 60 months.

III. Eligibility Information

1. Eligible Applicants: SEAs; LEAs, including public charter schools that are considered LEAs under State law; IHEs; other public agencies; private nonprofit organizations; freely associated States and outlying areas; Indian Tribes or Tribal organizations; and for-profit organizations.

2.a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application. Under 34 CFR 75.708(e), a grantee may contract for supplies, equipment, and other services in accordance with 2 CFR part 200.

4. Other General Requirements:

a. Recipients of funding under this competition must make positive efforts to employ and advance in employment qualified individuals with disabilities (see section 606 of IDEA).

b. Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel.

(ii) The qualifications, including relevant training and experience, of project consultants or subcontractors.

(iii) The adequacy of support, including facilities, equipment, supplies, and other resources, from the applicant organization or the lead applicant organization.

(iv) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, we have established a set of performance measures, including long-term measures, that are designed to yield information on various aspects of the effectiveness and quality of the Technical Assistance and Dissemination to Improve Services and Results for Children With Disabilities program. These measures are:

• Program Performance Measure 1: The percentage of Technical Assistance and Dissemination products and services deemed to be of high quality by an independent review panel of experts qualified to review the substantive content of the products and services.

• Program Performance Measure 2: The percentage of Special Education Technical Assistance and Dissemination products and services deemed by an independent review panel of qualified experts to be of high relevance to special education personnel preparation and professional development, or practice.

• Program Performance Measure 3: The percentage of all Special Education Technical Assistance and Dissemination products and services deemed by an independent review panel of qualified experts to be useful in improving special education personnel preparation and professional development, or practice.

• Program Performance Measure 4: The cost efficiency of the Technical Assistance and Dissemination Program includes the percentage of milestones achieved in the current annual performance report period and the percentage of funds spent during the current fiscal year.

• Long-term Program Performance Measure: The percentage of States receiving Special Education Technical Assistance and Dissemination services regarding scientifically or evidence-based practices for children, and youth with disabilities that successfully promote the implementation of those practices in school districts, and service agencies.

The measures apply to projects funded under this competition, and grantees are required to submit data on these measures as directed by OSEP.

Grantees will be required to report information on their project's performance in annual and final performance reports to the Department (34 CFR 75.590).

The Department will also closely monitor the extent to which the products and services provided by the Center meet needs identified by stakeholders and may require the Center to report on such alignment in their annual and final performance reports.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Katherine Neas,
Deputy Assistant Secretary, Delegated the authority to perform the functions and duties of the Assistant Secretary for the Office of Special Education and Rehabilitative Services.

[FR Doc. 2022-04422 Filed 3-2-22; 8:45 am]

BILLING CODE 4000-01-P